NUCLEAR REGULATORY COMMISSION

[NRC-2020-0162]

Information Collection: Voluntary Reporting of Planned New Reactor Applications; Withdrawal

AGENCY: Nuclear Regulatory Commission.

ACTION: Renewal of existing information collection; request for comment; withdrawal.

SUMMARY: On December 29, 2020, the U.S. Nuclear Regulatory Commission (NRC) inadvertently issued an information collection titled, “Voluntary Reporting of Planned New Reactor Applications” in the Federal Register. The information collection is being withdrawn because it duplicates a document previously published in the Federal Register on December 1, 2020.

DATES: The withdrawal of Information Collection: Voluntary Reporting of Planned New Reactor Applications takes effect on January 7, 2021.

ADDRESSES: Please refer to Docket ID NRC-2020-0162 when contacting the NRC about the availability of information regarding this document. You may obtain publicly available information related to this document using any of the following methods:

• Federal Rulemaking Website: Go to https://www.regulations.gov and search for Docket ID NRC-2020-0162. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents is currently closed. You may submit your request to the PDR via email at pdr.resource@nrc.gov or call 1-800-397-4209 or 301-415-4737 between 8:00 a.m. and 4:00 p.m. (EST), Monday through Friday, except Federal holidays.

FOR FURTHER INFORMATION CONTACT: David C. Cullison, Office of the Chief Information Officer, U.S. Nuclear Regulatory Commission, Washington, DC 20555-0001; telephone: 301-415-2084; email: Infocollects.Resource@nrc.gov.

SUPPLEMENTARY INFORMATION: The NRC is withdrawing Information Collection: Voluntary Reporting of Planned New Reactor Applications published in the Federal Register on December 29, 2020 (85 FR 85673). The information collection is a duplicate of a notice previously published in the Federal Register on December 1, 2020 (85 FR 77279). The comment period for the information collection published on December 1, 2020 ends on February 1, 2021, as stated in the original notice (85 FR 77279).

Dated: December 31, 2020.
For the Nuclear Regulatory Commission.
David C. Cullison,
NRC Clearance Officer, Office of the Chief Information Officer.

[FR Doc. 2020-29320 Filed 1-6-21; 8:45 am]

BILLING CODE 7590-01-P